DEPARTMENT OF COMMERCE

National Oceanic and Atmospheric Administration

[I.D. 021903B]

RIN 0648-AQ24

Fisheries of the Caribbean, Gulf of Mexico, and South Atlantic; Reef Fish Fishery of the Gulf of Mexico; Rebuilding Plan for Greater Amberjack in the Gulf of Mexico

AGENCY: National Marine Fisheries Service (NMFS), National Oceanic and Atmospheric Administration (NOAA), Commerce.

ACTION: Notice of availability of a Secretarial amendment; request for comments.

SUMMARY: NMFS announces that the Secretary of Commerce (Secretary), acting through the Gulf of Mexico Fishery Management Council (Council), has prepared Secretarial Amendment 2 to the Reef Fish Fishery Management Plan (Secretarial Amendment 2) that would establish a 10-year stock rebuilding plan for greater amberjack in the Gulf of Mexico. The rebuilding plan consists of a series of 3-year management goals and the associated management measures and actions necessary to achieve those goals, as determined by the status of the stock during each of the 3-year intervals. Secretarial Amendment 2 also establishes biomass-based stock rebuilding targets and thresholds (i.e., maximum sustainable yield (MSY), optimum yield (OY), maximum fishing mortality threshold (MFMT), and minimum stock size threshold (MSST)), consistent with the requirements of the Sustainable Fisheries Act of 1996 (SFA). The intended effect of Secretarial Amendment 2 is to prevent overfishing and rebuild the greater amberjack resource consistent with the requirements of the Magnuson-Stevens Fishery Conservation and Management Act (Magnuson-Stevens Act) while minimizing, to the extent practicable, adverse economic impacts on all users of the resource and the affected fishing communities.

DATES: Comments must be received no later than 4:30 p.m., eastern time, on May 13, 2003.

ADDRESSES: Written comments on Secretarial Amendment 2 must be sent to Phil Steele, Southeast Regional Office, NMFS, 9721 Executive Center Drive N., St. Petersburg, FL 33702. Comments may also be sent via fax to 727-570-5583. Comments will not be accepted if submitted via e-mail or Internet.

Requests for copies of Secretarial Amendment 2, which includes an environmental assessment and a regulatory impact review (RIR) should be sent to the Gulf of Mexico Fishery Management Council, 3018 U.S. Highway 301 North, Suite 1000, Tampa, FL 33619-2266; telephone: 813-228-2815; fax: 813-225-7015; e-mail: gulf.council@noaa.gov.

FOR FURTHER INFORMATION CONTACT: Phil Steele, telephone: 727-570-5305, fax: 727-570-5583, e-mail: Phil.Steele@noaa.gov.

SUPPLEMENTARY INFORMATION: The reef fish fishery in the exclusive economic zone of the Gulf of Mexico is managed under the Fishery Management Plan for the Reef Fish Resources of the Gulf of Mexico (FMP). The FMP was prepared by the Council, and is implemented under the authority of the Magnuson-Stevens Act by regulations at 50 CFR part 622.

Background

The greater amberjack resource in the Gulf of Mexico was declared overfished by NMFS on February 9, 2001. This determination was based on the 2000 greater amberjack stock assessment (using data through 1998) conducted by the NMFS Southeast Fisheries Science Center and the December 2000 Report of the Reef Fish Stock Assessment Panel (RFSAP). The results of several analyses indicated that the stock biomass was below the level needed to sustain harvest at MSY, with the best estimate indicating that the stock biomass was at less than half the biomass needed to sustain MSY, which is below the minimum level allowed under the 1998 NMFS National Standard Guidelines.

Further, the RFSAP concluded in its December 2000 report that the greater amberjack stock may not be experiencing overfishing if regulations previously implemented by the Council, but not factored into the 2000 stock assessment, have reduced fishing mortality. These regulations include: (1) an annual Gulf-wide closed season for greater amberjack from March through May (implemented in 1998); (2) a reduced bag limit for greater amberjack, from three to one fish per person (implemented in 1997); and (3) bag and size limits for lesser amberjack and for banded rudderfish, which are often mistaken for greater amberjack (implemented in 1999). NMFS concurred with this conclusion, stating in the February 9, 2001, letter to the Council that “the Gulf of Mexico greater amberjack stock is overfished, but is not experiencing overfishing.” A 2002 analysis, which incorporated recent landings data through the year 2000, indicated that overfishing had indeed been halted. Because overfishing has been halted, and because recent landings have been below levels required to rebuild the stock within a 10-year time frame, the rebuilding plan alternatives considered in this document do not contain additional management measures to further reduce fishing mortality.

Currently, the FMP requires that overfished stocks be restored to a level of 20 percent transitional spawning potential ratio within a time period equal to one and one-half times the average time it would take a year class in an unfished population to replace itself, also known as the generation time. However, in order to comply with the requirements of the Magnuson-Stevens Act, as amended by the Sustainable Fisheries Act, new biomass-based targets and recovery time frame parameters need to be implemented.

This Secretarial Amendment proposes to establish these new biomass-based targets and thresholds for greater amberjack, as well as a schedule to rebuild the stock to a non-overfished level within 10 years. Proposed actions in the amendment include setting total allowable catch (TAC) for 3-year intervals with TAC being set at the yield associated with year one of the 3-year interval from the constant F40% rebuilding stream. Proposed TAC will be 2.9 million lb (1.3 million kg) for the years 2003-2005, 5.2 million lb (2.4 million kg) for years 2006-2008, 7.0 million lb (3.2 million kg) for years 2009-2011, and 7.9 million lb (3.6 million kg) for 2012. Additionally, the amendment contains definitions of MSY and OY and adds new stock status determination criteria regarding definitions of “overfished” (minimum stock size threshold) and “overfishing” (maximum fishing mortality threshold). The amendment proposes no changes to the current fishing regulations for greater amberjack.

Procedural Aspects of Secretarial Amendment 2

The Council has proposed Secretarial Amendment 2 for NMFS' review, approval, and implementation. However, neither the proposed biomass-based stock rebuilding targets and thresholds nor the initial phase (2003-2005) of the greater amberjack rebuilding plan involve changes to the regulations; therefore, no proposed or final rule is required at this time. NMFS' decision to adopt Secretarial Amendment 2 will be based on consideration of comments, recommendations, views, and information received during the comment period on this notice of availability. After consideration of these factors, NMFS will publish a notice of agency action in the Federal Register announcing the agency's decision to approve, partially approve, or disapprove Secretarial Amendment 2 and the associated rationale. If approved, the provisions of Secretarial Amendment 2 would not be specified in regulations but would be considered to be amendments to the FMP. To the extent that management measures resulting from the rebuilding plan after 2005, or any that might result from routine monitoring prior to 2005, require changes to the regulations, such changes would be implemented via plan amendment or regulatory amendment with associated proposed rules, public comment, and final rules.

Consideration of Public Comments

Public comments received by 4:30 p.m. eastern time, on May 13, 2003 will be considered by NMFS in the approval/disapproval decision regarding Secretarial Amendment 2.

Authority: 16 U.S.C. 1801 et seq.

Dated: March 10, 2003.
Richard W. Surdi,
Acting Director, Office of Sustainable Fisheries, National Marine Fisheries Service.

[FR Doc. 03-6197 Filed 3-13-03; 8:45 am]

BILLING CODE 3510-22-S